COURT SERVICES AND OFFENDER SUPERVISION AGENCY FOR THE DISTRICT OF COLUMBIA

Publication of Fiscal Year 2016 Service Contract Inventory

AGENCY: Court Services and Offender Supervision Agency for the District of Columbia (CSOSA).

ACTION: Notice of public availability of FY 2016 Service Contract Inventory.

SUMMARY: In accordance with Section 743 of Division C of the FY2010 Consolidated Appropriations Act, the Court Services and Offender Supervision Agency hereby advises the public of the availability of the FY 2016 Service Contract Inventory. This inventory provides information on service contract actions over $25,000 that were made in FY 2016. The information is organized by function to show how contracted resources are distributed throughout the agency. This inventory has been developed in accordance with guidance issued on November 5, 2010 and December 19, 2011 by the Office of Management and Budget's Office of Federal Procurement Policy (OFPP). CSOSA's FY 2016 Service Contract Inventory is available on its website at: http://www.csosa.gov/about/mandated-reports.aspx.

FOR FURTHER INFORMATION CONTACT:

Inventory Information: Reggie James, Associate Director, Court Services and Offender Supervision Agency, Office of Administration, 800 North Capitol Street NW, Washington, DC 20004, at (202) 220-5707, or reggie.james@csosa.gov.

Notice Information: Rochelle Durant, Program Analyst, Court Services and Offender Supervision Agency, 633 Indiana Avenue NW, Washington, DC 20004, (202) 220-5304, or rochelle.durant@csosa.gov.

Dated: February 15, 2018.
Rochelle Durant,
Program Analyst, Court Services and Offender Supervision Agency for the District of Columbia.

[FR Doc. 2018-03616 Filed 2-21-18; 8:45 am]

BILLING CODE 3129-04-P